DEPARTMENT OF THE INTERIOR

Bureau of Land Management

[WO-320-1310-PP-OSHL]

Public Land Order No. 7726; Revocation of Oil Shale Withdrawals; Wyoming

AGENCY: Bureau of Land Management, Interior.

ACTION: Public Land Order.

SUMMARY: This order revokes a withdrawal established by an Executive Order insofar as it affects public lands and federally owned mineral deposits in the State of Wyoming withdrawn for investigation, examination and classification of oil shale. This order also restores those withdrawn oil shale deposits and public lands containing such deposits to oil shale leasing and opens all lands to the operation of the public land laws, excepting the operation of the 1872 Mining Law.

DATES: Effective Date: February 9, 2009.

FOR FURTHER INFORMATION CONTACT: Janet Booth, BLM Wyoming State Office, 5353 N. Yellowstone Road, P.O. Box 1828, Cheyenne, Wyoming 82003, 307-775-6124.

SUPPLEMENTARY INFORMATION: Executive Order No. 5327 temporarily withdrew public lands from lease or other disposal for investigation, examination and classification of oil shale. The Energy Policy Act of 2005 (42 U.S.C. 15801), Public Law 109-58, dated August 8, 2005, authorizes the Secretary of the Interior to make public lands containing federally owned oil shale deposits available for leasing. Approximately 6,031,000 acres of public lands and federally owned mineral deposits in the State of Wyoming are affected by this revocation. The lands will not be opened to the operation of the 1872 Mining Law until completion of an analysis to determine if any of the lands need special designation and protection. There is also a complementary withdrawal of these lands that disallows the location of mining claims for metalliferous minerals under the 1872 Mining Law.

Order

By virtue of the authority vested in the Secretary of the Interior by section 204 of the Federal Land Policy and Management Act of 1976, 43 U.S.C. 1714 (2000), it is ordered as follows:

1. The withdrawal established by Executive Order No. 5327, dated April 15, 1930, as amended, which withdrew oil shale deposits and lands containing such deposits, is hereby revoked insofar as it affects public lands and federally owned mineral deposits in the State of Wyoming.

2. At 9 a.m. February 9, 2009, all withdrawn federally owned oil shale deposits and public lands containing oil shale deposits in the State of Wyoming withdrawn by Executive Order No. 5327 referenced in Paragraph 1, will be opened to the operation of the public land laws and to development activities pursuant to section 21 of the Mineral Leasing Act of 1920 (30 U.S.C. 241), as amended by section 369 of the Energy Policy Act of 2005, Public Law No. 109-58) and regulations promulgated thereunder, but will not be opened to the operation of the 1872 Mining Law, subject to valid existing rights, the provisions of existing withdrawals, other segregations of record, and the requirements of applicable law. All valid applications received at or prior to 9 a.m. on February 9, 2009), will be considered as simultaneously filed at that time. Those received thereafter will be considered in the order of filing.

Dated: December 26, 2008.
C. Stephen Allred,
Assistant Secretary, Land and Minerals Management.

[FR Doc. E9-105 Filed 1-7-09; 8:45 am]

BILLING CODE 4310-84-P